ELECTION ASSISTANCE COMMISSION

Sunshine Act Notice

AGENCY: U.S. Election Assistance Commission.

ACTION: Notice of closed meeting agenda.

Date and Time: Wednesday, September 1, 2010; 9:30 a.m.-12 p.m. EDT.

Place: U.S. Election Assistance Commission, 1201 New York Ave., NW., Washington, DC 20005.

Agenda: Commissioners will hold a closed session discussion regarding a personnel matter on the appointment of an EAC general counsel.

* View EAC Regulations Implementing Government in the Sunshine Act. This meeting will be closed to the public.

Person to Contact for Information: Bryan Whitener, Telephone: (202) 566-3100.

Alice Miller,
Chief Operating Officer, U.S. Election Assistance Commission.

[FR Doc. 2010-21713 Filed 8-26-10; 4:15 pm]

BILLING CODE 6820-KF-P